FEDERAL COMMUNICATIONS COMMISSION

[FR ID: 313458]

Technological Advisory Council; Re-Establishment

AGENCY: Federal Communications Commission.

ACTION: Notice of re-establishment of the Technological Advisory Council.

SUMMARY: The Federal Communications Commission (Commission) hereby announces that the Technological Advisory Council (hereinafter Council or TAC) will be reestablished for a two-year period pursuant to the Federal Advisory Committee Act (FACA), following consultation with the Committee Management Secretariat, General Services Administration.

ADDRESSES: Federal Communications Commission, 45 L St. NE, Washington, DC 20554.

FOR FURTHER INFORMATION CONTACT: Martin Doczkat, Designated Federal Officer, Federal Communications Commission, Office of Engineering and Technology, (202) 418-2435 or email: TAC@fcc.gov.

SUPPLEMENTARY INFORMATION: After consultation with the General Services Administration, the Commission intends to re-establish the charter, providing the Council with authorization to operate for a period of two years.

The purpose of the TAC is to provide technical advice to the Federal Communications Commission and to make recommendations on the issues and questions presented to it by the FCC. The TAC will focus on key issues affecting the development and deployment of emerging communications technologies to spur opportunities for innovation, competition, adoption, greater efficiencies, job creation, and other national priorities.

Advisory Committee

The Council will be organized under, and will operate in accordance with, the provisions of the FACA (5 U.S.C. Ch. 10). The Council will be solely advisory in nature. Consistent with FACA and its requirements, each meeting of the Council will be open to the public unless otherwise notified. A notice of each meeting will be published in the Federal Register at least fifteen (15) days in advance of the meeting. Records will be maintained of each meeting and made available for public inspection. All activities of the Council will be conducted in an open, transparent, and accessible manner. The Council shall terminate two (2) years from the filing date of its charter, or earlier upon the completion of its work as determined by the Chair of the FCC, unless its charter is renewed prior to the termination date.

During the Council's next term, it is anticipated that the Council will meet in Washington, DC, and/or virtually, at the discretion of the Commission, approximately four (4) times a year. The first meeting date and agenda topics will be described in a Public Notice issued and published in the Federal Register at least fifteen (15) days prior to the first meeting date.

In addition, as needed, subcommittees will be established to facilitate the Council's work between meetings of the full Council.

Federal Communications Commission.
Andrew Hendrickson,
Acting Chief, Office of Engineering and Technology.

[FR Doc. 2025-17854 Filed 9-15-25; 8:45 am]

BILLING CODE 6712-01-P